DEPARTMENT OF ENERGY

Federal Energy Regulatory Commission

Combined Notice of Filings #1

Take notice that the Commission received the following electric corporate filings:

Docket Numbers: EC18-23-000.

Applicants: Dynegy Inc., Vistra Energy Corp.

Description: Joint Application of Dynegy Inc., et al. for Authorization for Merger of Jurisdictional Assets and Purchase of Securities under Sections 203(a)(1) and 203(a)(2) of the Federal Power Act.

Filed Date: 11/22/17.

Accession Number: 20171122-5134.

Comments Due: 5 p.m. ET 1/22/17.

Docket Numbers: EC18-24-000.

Applicants: Innergex Renewable Energy Inc.

Description: Application of Innergex Renewable Energy Inc. for Authorization of Acquisition under Section 203(a)(2).

Filed Date: 11/24/17.

Accession Number: 20171124-5031.

Comments Due: 5 p.m. ET 12/15/17.

Take notice that the Commission received the following electric rate filings:

Docket Numbers: ER10-2331-068; ER10-2319-058; ER10-2317-058; ER13-1351-040; ER10-2330-065.

Applicants: J.P. Morgan Ventures Energy Corporation, BE CA LLC, BE Alabama LLC, Florida Power Development LLC, Utility Contract Funding, L.L.C.

Description: Notice of Non-Material Change in Status of the J.P. Morgan Sellers.

Filed Date: 11/27/17.

Accession Number: 20171127-5059.

Comments Due: 5 p.m. ET 12/18/17.

Docket Numbers: ER17-2087-001.

Applicants: Hog Creek Wind Project, LLC.

Description: Notice of Non-Material Change in Status of Hog Creek Wind Project, LLC.

Filed Date: 11/27/17.

Accession Number: 20171127-5061.

Comments Due: 5 p.m. ET 12/18/17.

Docket Numbers: ER18-329-000.

Applicants: PJM Interconnection, L.L.C.

Description: § 205(d) Rate Filing: Six Interconnection Service Agreements re: Dayton Transfer to be effective 10/26/2017.

Filed Date: 11/27/17.

Accession Number: 20171127-5010.

Comments Due: 5 p.m. ET 12/18/17.

Docket Numbers: ER18-330-000.

Applicants: NSTAR Electric Company.

Description: Tariff Cancellation: Notice of Cancellation of Essential Power Newington Design Engineering Agreement to be effective 11/27/2017.

Filed Date: 11/27/17.

Accession Number: 20171127-5080.

Comments Due: 5 p.m. ET 12/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2017.
Kimberly D. Bose,
Secretary.

[FR Doc. 2017-25997 Filed 12-1-17; 8:45 am]

BILLING CODE 6717-01-P